ENVIRONMENTAL PROTECTION AGENCY

40 CFR Part 62

[EPA-R08-OAR-2016-0197; FRL-9953-13-Region 8]

Approval and Promulgation of State Plans for Designated Facilities and Pollutants, State of Wyoming; Control of Emissions From Existing Hospital/Medical/Infectious Waste Incinerator Units, Plan Revision

AGENCY: Environmental Protection Agency (EPA).

ACTION: Direct final rule.

SUMMARY: The Environmental Protection Agency (EPA) is taking direct final action to approve a revision to the Wyoming hospital/medical/infectious waste incinerator (HMIWI) Section 111(d)/129 plan (the “plan”). The plan was submitted to the EPA to fulfill requirements of the Clean Air Act (CAA) and to implement and enforce the emissions guidelines (EG) for existing hospital/medical/infectious waste incinerators (HMIWI). The plan establishes emission limits; operator training and qualification requirements; performance testing, monitoring, and inspection requirements; and requirements for a waste management plan and reporting and recordkeeping requirements for existing hospital/medical/infectious waste incinerator units as specified in the October 6, 2009, amendments to the federal EG and New Source Performance Standards (NSPS), 40 CFR part 60, subparts Ce and Ec, respectively.

DATES: This direct final rule is effective on December 2, 2016 without further notice, unless the EPA receives adverse written comments by November 2, 2016. If adverse comments are received, the EPA will publish a timely withdrawal of the direct final rule in the Federal Register informing the public that the rule will not take effect.

ADDRESSES: Submit your comments, identified by Docket ID No. EPA-R08-OAR-2016-0197 at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Kendra Morrison, Air Program, U.S. Environmental Protection Agency, Region 8, 1595 Wynkoop Street, Denver, Colorado 80202-1129, (303) 312-6145, morrison.kendra@epa.gov.

SUPPLEMENTARY INFORMATION:

I. Why is EPA using a direct final rule?

The EPA is publishing this rule without prior proposal because we view this as a noncontroversial amendment and anticipate no adverse comments. However, in the “Proposed Rules” section of today's Federal Register publication, we are publishing a separate document that will serve as the proposal to approve the revision if adverse comments are received on this direct final rule. We will not institute a second comment period on this action. Any parties interested in commenting must do so at this time. For further information about commenting on this rule, see the ADDRESSES section of this document.

If the EPA receives adverse comment, we will publish a timely withdrawal in the Federal Register informing the public that this direct final will not take effect. We would address all public comments in any subsequent final rule based on the proposed rule.

II. What should I consider as I prepare my comments for the EPA?

A. Submitting Confidential Business Information (CBI). Do not submit CBI to EPA through http://www.regulations.gov or email. Clearly mark the part or all of the information that you claim to be CBI. For CBI information on a disk or CD ROM that you mail to the EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

B. Tips for preparing your comments. When submitting comments, remember to:

• Identify the rulemaking by docket number and other identifying information (subject heading, Federal Register volume, date, and page number);

• Follow directions and organize your comments;

• Explain why you agree or disagree;

• Suggest alternatives and substitute language for your requested changes;

• Describe any assumptions and provide any technical information and/or data that you used;

• If you estimate potential costs or burdens, explain how you arrived at your estimate in sufficient detail to allow for it to be reproduced;

• Provide specific examples to illustrate your concerns, and suggest alternatives;

• Explain your views as clearly as possible, avoiding the use of profanity or personal threats; and,

III. Background

The EPA's statutory authority for the regulation of new and existing solid waste incineration units is outlined in the CAA sections 111 and 129. Section 129 of the CAA is specific to solid waste combustion, and requires the EPA to establish performance standards for each category of solid waste incineration units. Section 111 of the Act gives EPA the statutory authority to promulgate NSPS, applicable to new units, and/or EG for existing units. EG are implemented and enforced through either an EPA-approved state plan or a promulgated federal plan. Section 129(b)(2) requires states to submit to the EPA for approval state plans that implement and enforce the promulgated EG. Section 129(b)(3) requires the EPA to promulgate a federal plan (FP) within two years from the date on which the EG, or amendment, was promulgated. The FP is applicable to any affected facility if the state has failed to receive the EPA approval of the state plan, or revision. The FP acts as an enforcement place holder until the state submits and receives the EPA approval of its plan. State plan submittals must be consistent with the relevant emissions guidelines, in this instance 40 CFR part 60, subpart Ce, and the requirements of 40 CFR part 60, subpart B and part 62, subpart A. Section 129 of the CAA regulates the following substances or mixtures: Organics (dioxins/furans), carbon monoxide, metals (cadmium, lead, and mercury), acid gases (hydrogen chloride, sulfur dioxide, and nitrogen oxides) and particulate matter (which includes opacity). The initial Wyoming plan for HMIWI units was approved by the EPA on August 21, 2000 (65 FR 38732). The plan approval is codified in 40 CFR part 62, subpart ZZ. On May 13, 2015, the Wyoming Department of Environmental Quality (DEQ) submitted to the EPA a revised Section 111(d)/129 plan for HMIWI units. The DEQ made minor edits to the plan at the request of the EPA and the DEQ revised and resubmitted its submission to the EPA on November 24, 2015. The submitted plan revision was in response to the October 6, 2009 amendments to federal EG and NSPS requirements for HMIWI units, 40 CFR part 60, subparts Ce and Ec, respectively (74 FR 51367). This rulemaking action will supersede the EPA's August 21, 2000 (65 FR 38732) approval of Wyoming's initial plan.

IV. Summary of Wyoming's HMIWI Plan Revision

The EPA has reviewed the Wyoming HMIWI plan revision submittal in the context of the requirements of 40 CFR part 60, subparts B and Ce, as amended, and part 62, subpart A. The plan contained (1) a demonstration of Wyoming's legal authority to implement the plan; (2) identification and a copy of the state's adoption of Subpart Ce into rule Wyoming Air Quality Standards and Regulations (WAQSR) Chapter 4, Section 5, and Chapter 5 as the mechanism to enforce the emissions guidelines; (3) an inventory of one known designated facility and an inventory of its air emissions; (4) emission limits that are as protective as the emissions guidelines; (5) a final compliance date no later than October 6, 2014; (6) testing, monitoring, inspection, operator training and qualification, waste management plan, and recordkeeping and reporting requirements for the designated facilities; (7) documentation of public hearing(s) on the plan; (8) provisions to submit annual state progress reports to the EPA; and (9) a commitment to the EPA that all Title V operating permits, modifications, and renewals for designated facilities will specify all applicable state requirements and 40 CFR part 62, subpart ZZ. The submitted plan revision meets all requirements of 40 CFR part 60, subparts B and Ce, as amended, and part 62, subpart A.

V. What action is the EPA taking today?

The EPA is approving the Wyoming HMIWI Section 111(d)/129 plan revision that reflects amendments made to 40 CFR part 60, subparts Ce and Ec. Therefore, the EPA is amending 40 CFR part 62, subpart ZZ to reflect this action. This approval is based on the EPA's review of the plan, discussed above. This plan revision approval does not negate or void any of the initial August 21, 2000 plan approval requirements, including compliance dates for any affected facility. The scope of this plan revision approval is limited to the provisions of 40 CFR parts 60 and 62 for existing HMIWI units, as referenced in the EG, subpart Ce, and the related NSPS, subpart Ec, as amended.

The EPA is publishing this rule without prior proposal because we view this as a noncontroversial amendment and anticipate no adverse comments. However, in the Proposed Rules section of today's Federal Register publication, we are publishing a separate document that will serve as the proposal to approve the revision if adverse comments are filed. This rule will be effective December 2, 2016 without further notice unless we receive adverse comments by November 2, 2016. If we receive adverse comments, we will publish a timely withdrawal in the Federal Register informing the public that the rule will not take effect. We will address all public comments in a subsequent final rule based on the proposed rule. We will not institute a second comment period on this action. Any parties interested in commenting must do so at this time. Please note that if we receive adverse comment on an amendment, paragraph, or section of this rule and if that provision may be severed from the remainder of the rule, we may adopt as final those provisions of the rule that are not the subject of an adverse comment.

VI. Statutory and Executive Orders Review

Under the Clean Air Act, the Administrator is required to approve a Section 111(d)/129 plan submission that complies with the provisions of the Act and applicable federal regulations 42 U.S.C. 7410(k); 40 CFR 52.02(a). Thus, in reviewing Section 111(d)/129 plan submissions, the EPA's role is to approve state actions, provided that they meet the criteria of the Clean Air Act. Accordingly, this direct final action merely approves some state law as meeting federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact in a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045(62 FR 19885, April 23, 1997);

• Is not a significant regulatory action subject to Executive Order 13211 (66 FR 28355, May 22, 2001);

• Is not subject to requirements of Section 12(d) of the National Technology Transfer and Advancement Act of 1995 (15 U.S.C. 272 note)because application of those requirements would be inconsistent with the Clean Air Act; and

• Does not provide the EPA with the discretionary authority to address, as appropriate, disproportionate human health or environmental effects, using practicable and legally permissible methods, under Executive Order 12898 (59 FR 7629, February 16, 1994).

The state plan is not approved to apply on any Indian reservation land or in any other area where EPA or an Indian tribe has demonstrated that a tribe has jurisdiction. In those areas of Indian Country, the rule does not have tribal implications and will not impose substantial direct costs on tribal governments or preempt tribal law as specified by Executive Order 13175 (65 FR 67249, November 9, 2000).

The Congressional Review Act, 5 U.S.C. 801 et seq, as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 2, 2016. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that the EPA can withdraw this direct final rule and address the comment in the proposed rulemaking. This action may not be challenged later in proceedings to enforce its requirements. (See section 307(b)(2).)

List of Subjects in 40 CFR Part 62

Environmental protection, Air pollution control, Solid waste incineration, Hospital/medical/infectious waste incineration.

Authority: 42 U.S.C. 7401 et seq.

Dated: May 17, 2016.
Shaun L. McGrath,
Regional Administrator, Region 8.

40 CFR part 62, subpart ZZ, is amended as follows:

PART 62—APPROVAL AND PROMULGATION OF STATE PLANS FOR DESIGNATED FACILITIES AND POLLUTANTS

1. The authority citation for part 62 continues to read as follows:

Authority: 42 U.S.C. 7401 et seq.

Subpart ZZ—Wyoming

2. Section 62.12610 is revised to read as follows:

§ 62.12610 Identification of plan.

Section 111(d)/129 Plan for Hospital/Medical/Infectious Waste Incinerators and the associated State regulation, Chapter 4, Section 5, and Chapter 5 of the Wyoming Air Quality Standards and Regulations, submitted by the State on September 7, 1999 and November 9, 1999, and as amended on May 13, 2015 and November 24, 2015.

3. Section 62.12611 is revised to read as follows:

§ 62.12611 Identification of sources.

The plan applies to each individual hospital/medical/infectious waste incinerator:

(a) For which construction was commenced on or before June 20, 1996, or for which modification was commenced on or before March 16, 1998.

(b) For which construction was commenced after June 20, 1996 but no later than December 1, 2008, or for which modification is commenced after March 16, 1998 but no later than April 6, 2010.

4. Section 62.12612 is revised to read as follows:

§ 62.12612 Effective date.

The effective date of the plan for hospital/medical/infectious waste incinerators is December 2, 2016.

Editorial Note: This document was received for publication by the Office of the Federal Register on September 26, 2016.

[FR Doc. 2016-23584 Filed 9-30-16; 8:45 am]

BILLING CODE 6560-50-P